COMMISSION ON CIVIL RIGHTS

Notice of Public Meeting of the Maine Advisory Committee; Correction

AGENCY: Commission on Civil Rights.

ACTION: Notice; correction.

SUMMARY: The Commission on Civil Rights published a notice in the Federal Register concerning a meeting of the Maine Advisory Committee. The meeting scheduled for Thursday, April 15, 2021 at 12:00 p.m. (ET) is cancelled.

FOR FURTHER INFORMATION CONTACT: Evelyn Bohor, (202) 921-2212, ebohor@usccr.gov.

SUPPLEMENTARY INFORMATION:

Corrections

In the Federal Register of Friday, February 26, 2021, in FR 2021-03973, on page 11720, in the second column, correct the “Summary” caption to read:

SUMMARY: Notice is hereby given, pursuant to the provisions of the rules and regulations of the U.S. Commission on Civil Rights (Commission), and the Federal Advisory Committee Act (FACA), that the Maine State Advisory Committee to the Commission will hold virtual meetings on the third Thursdays on the following months: March 18 and May 20, 2021 at 12:00 p.m. (ET) for the purpose of reviewing and writing the report on for its digital equity project.

In the Federal Register of Friday, February 26, 2021, in FR 2021-03973, on page 11720, in the second column of page 11720, correct the “Dates” caption to read:

DATES: March 18 and May 20, 2021, Thursday at 12:00 p.m. (ET):

• To join by web conference: https://bit.ly/3ombRrt

• To join by phone only, dial 1-800- 360-9505; Access code: 199 929 4603

In the Federal Register of Friday, February 26, 2021, in FR 2021-03973, on page 11720, in the third column, correct the “Agenda” caption to read:

Agenda

Thursdays—March 18 and May 20, 2021 at 12:00 p.m. (ET)

I. Welcome and Roll Call

II. Report Writing: Digital Equity in Maine

III. Public Comment

IV. Next Steps

V. Adjournment

Dated: April 12, 2021.
David Mussatt,
Supervisory Chief, Regional Programs Unit.

[FR Doc. 2021-07761 Filed 4-15-21; 8:45 am]

BILLING CODE 6335-01-P